FEDERAL COMMUNICATIONS COMMISSION

47 CFR Parts 1, 2, 22, 24, 27, 90 and 95

[WT Docket No. 10-4; DA 11-1078]

Improving Wireless Coverage Through the Use of Signal Boosters

AGENCY: Federal Communications Commission.

ACTION: Proposed rule; extension of comment period.

SUMMARY: The Federal Communications Commission extends the deadlines for filing comments and reply comments on the Commission's Notice of Proposed Rulemaking (NPRM), in this proceeding, which was published in the Federal Register on Tuesday, May 10, 2011.

DATES: The comment period for the proposed rule published May 10, 2011 (76 FR 26983), is extended. Submit comments on or before July 25, 2011, and reply comments on or before August 24, 2011.

ADDRESSES: You may submit comments, identified by WT Docket No. 10-4; FCC 11-53, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Joyce Jones, Mobility Division, Wireless Telecommunications Bureau, at (202) 418-1327, or e-mail at joyce.jones@fcc.gov.

SUPPLEMENTARY INFORMATION: This is a summary of the Commission's Order (“Order”) in WT Docket No. 10-4, DA 11-1078, adopted and released on June 20, 2011, which extends the comment and reply comment filing deadlines established in the NPRM published under FCC No. 11-53 at 76 FR 26983, May 10, 2011. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

SUPPLEMENTARY INFORMATION:

Background

1. In this document, the Commission addresses a joint motion filed by Wilson Electronics, Inc. and Verizon Wireless (filed June 16, 2011) requesting a thirty-day extension of the time period to file comments in this rulemaking to allow them additional time to “work through the many complicated technical issues presented” and “work towards a solution that has the potential to benefit both booster manufacturers and wireless carriers.” The Commission, in this instance, finds that providing a limited extension will serve the public interest by allowing parties to discuss the complex technical issues at stake and develop consensus approaches that benefit consumers, and is therefore extending the deadline for all comments and reply comments to July 25, and August 24, 2011, respectively.

Ordering Clauses

2. Pursuant to section 4(i) of the Communications Act of 1934, as amended, 47 U.S.C. 154(i), and section 1.46 of the Commission's rules, 47 CFR 1.46, the joint request of Wilson Electronics, Inc. and Verizon Wireless, filed on June 16, 2011, is Granted and the deadline for filing comments in response to the NPRM is Extended to July 25, 2011, and the deadline for filing reply comments is Extended to August 24, 2011.

3. This action is taken under delegated authority pursuant to sections 0.131 and 0.331 of the Commission's rules, 47 CFR 0.131, 0.331.

4. A copy of the NPRM, including the Initial Regulatory Flexibility Analysis, Has Been Sent to the Chief Counsel of Advocacy of the Small Business Administration.

Federal Communications Commission.
Michael McKenzie,
Deputy Chief, Wireless Telecommunications Bureau.

[FR Doc. 2011-15895 Filed 6-23-11; 8:45 am]

BILLING CODE 6712-01-P